FEDERAL COMMUNICATIONS COMMISSION

[CG Docket No. 03-123; DA 13-275]

Pleading Cycle Established for Comment on Applications for State Certification for the Provision of Telecommunications Relay Service

AGENCY: Federal Communications Commission.

ACTION: Notice.

SUMMARY: In this document, the Commission seeks public comment on state applications for renewal of the certification of their state TRS programs pursuant to Title IV of the Americans with Disabilities Act (ADA).

DATES: Comments are due on or before March 15, 2013, and reply comments are on or before March 29, 2013.

ADDRESSES: You may submit comments, identified by CG Docket No. 03-123 and the relevant state identification number of the state application that is being comment upon, by any of the following methods: Electronic Filers: Comments may be filed electronically using the Internet by accessing the Commission's Electronic Comment Filing System (ECFS), through the Commission's Web site http://apps.fcc.gov/ecfs// or by filing paper copies. Filers should follow the instructions provided on the Web site for submitting comments. In completing the transmittal screen, filers should include their full name, U.S. Postal service mailing address, and the applicable docket number.

• Paper filers: Parties who choose to file by paper must file an original and one copy of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• All hand-delivered or messenger-delivered paper filings for the Commission's Secretary must be delivered to FCC Headquarters at 445 12th St. SW., Room TW-A325, Washington, DC 20554. All hand deliveries must be held together with rubber bands or fasteners. Any envelopes must be disposed of before entering the building.

• Commercial Mail sent by overnight mail (other than U.S. Postal Service Express Mail and Priority Mail) must be sent to 9300 East Hampton Drive, Capitol Heights, MD 20743.

• U.S. Postal Service first-class, Express, and Priority mail should be addressed to 445 12th St. SW., Washington, DC 20554.

FOR FURTHER INFORMATION CONTACT: Dana Wilson, Consumer and Governmental Affairs Bureau, Disability Rights Office, at (202) 418-2247, or email Dana.Wilson@fcc.gov.

SUPPLEMENTARY INFORMATION: This is a summary of the Commission's document DA 13-275. Pursuant to 47 CFR 1.415 and 1.419, interested parties may file comments and reply comments on or before the dates indicated in the Dates section. The full text of document DA 13-275, copies of applications for certification, and subsequently filed documents in this matter are available for public inspection and copying during regular business hours at the FCC Reference Information Center, Portals II, 445 12th St. SW., Room CY-A257, Washington, DC 20554. Document DA 13-275 also is available on the Commission's Web site at: http://transition.fcc.gov/cgb/dro/trs.html. Document DA 13-275, copies of applications for certification, and subsequently filed documents in this matter may also be found by searching ECFS at http://apps.fcc.gov/ecfs//. When searching for the state application in ECFS, please enter docket number 03-123 in the proceeding number fill-in block, and the state identification number, (e.g., TRS-46-12) assigned for that specific state application in the bureau identification number fill-in block. They may also be purchased from the Commission's duplicating contractor at Portals II, 445 12th St. SW., Room CY-B402, Washington, DC 20554; the contractor's Web site, http://www.bcpiweb.com; or by calling (800) 378-3160.

To request materials in accessible formats for people with disabilities (Braille, large print, electronic files, audio format), send an email to fcc504@fcc.gov or call the Consumer and Governmental Affairs Bureau at 202-418-0530 (voice), 202-418-0432 (TTY).

Synopsis

Notice is hereby given that the states listed below have applied to the Commission for renewal of the certification of their state telecommunications relay service (TRS) programs pursuant to Title IV of the ADA, 47 U.S.C. 225, and the Commission's rules, 47 CFR 64.601-605. Current state certifications expire July 25, 2013. A state's applications for certification, covering the five year period from July 26, 2013 to July 25, 2018, must demonstrate that the state TRS program complies with section 225 and the Commission's rules governing the provision of TRS. This notice seeks public comment on the following state applications for certification:

File No: TRS-46-12

Alabama Public Service Commission, State of Alabama

File No: TRS-47-12

Arkansas Deaf and Hearing Impaired, State of Arkansas

File No: TRS-02-12

Commission for the Deaf and Hard of Hearing, State of Arizona

File No: TRS-32-12

California Public Utilities Commission, State of California

File No: TRS-23-12

Colorado Public Utilities Commission, State of Colorado

File No: TRS-48-12

Connecticut Department of Public Utility, State of Connecticut

File No: TRS-35-12

Delaware Public Service Commission, State of Delaware

File No: TRS-49-12

Public Service Commission, District of Columbia

File No: TRS-50-12

Florida Public Service Commission, State of Florida

File No: TRS-51-12

Georgia Public Service Commission, State of Georgia

File No: TRS-22-12

Hawaii Public Utilities Commission, State of Hawaii

File No: TRS-43-12

Idaho Public Service Commission, State of Idaho

File No: TRS-10-12

Illinois Commerce Commission, State of Illinois

File No: TRS-08-12

Indiana Telephone Relay Access Corporation, State of Indiana

File No: TRS-03-12

Iowa Utilities Board, State of Iowa

File No: TRS-07-12

Kansas Relay Services, Inc., State of Kansas

File No: TRS-52-12

Kentucky Public Service Commission, Commonwealth of Kentucky

File No: TRS-13-12

Louisiana Relay Administration Board, State of Louisiana

File No: TRS-53-12

Maine Public Utilities Commission, State of Maine

File No: TRS-33-12

Telecommunications Access of Maryland, State of Maryland

File No: TRS-34-12

Department of Telecommunications and Energy, Commonwealth of Massachusetts

File No: TRS-54-12

Michigan Public Service Commission, State of Michigan

File No: TRS-39-12

Minnesota Department of Commerce, State of Minnesota

File No: TRS-55-12

Mississippi Public Service Commission, State of Mississippi

File No: TRS-15-12

Missouri Public Service Commission, State of Missouri

File No: TRS-56-12

Telecommunications Access Program, State of Montana

File No: TRS-40-12

Nebraska Public Service Commission, State of Nebraska

File No: TRS-25-12

Relay Nevada, State of Nevada

File No: TRS-42-12

New Hampshire Public Service Commission, State of New Hampshire

File No: TRS-45-12

New Jersey Board of Utilities, State of New Jersey

File No: TRS-14-12

Commission for the Deaf and Hard of Hearing, State of New Mexico

File No: TRS-16-12

New York State Department of Public Service, State of New York

File No: TRS-30-12

Department of Health and Human Service, State of North Carolina

File No: TRS-12-12

Information Technology Department, State of North Dakota

File No: TRS-37-12

Public Utilities Commission of Ohio, State of Ohio

File No: TRS-57-12

Oklahoma Telephone Association, State of Oklahoma

File No: TRS-36-12

Oregon Public Utilities Commission, State of Oregon

File No: TRS-58-12

Pennsylvania Bureau of Consumer Services, Commonwealth of Pennsylvania

File No: TRS-28-12

Telecommunications Regulatory Board, Puerto Rico

File No: TRS-59-12

Division of Public Utilities and Carriers, State of Rhode Island

File No: TRS-62-12

Micronesian Telecommunications Corporation, Saipan

File No: TRS-11-12

South Carolina Office of Regulatory Staff, State of South Carolina

File No: TRS-60-12

Department of Human Services, State of South Dakota

File No: TRS-20-12

Tennessee Regulatory Authority, State of Tennessee

File No: TRS-17-12

Texas Public Utility Commission, State of Texas

File No: TRS-09-12

Public Service Commission, State of Utah

File No: TRS-44-12

Vermont Department of Public Service, State of Vermont

File No: TRS-04-12

Department for the Deaf and Hard of Hearing, Commonwealth of Virginia

File No: TRS-27-12

Office of the Deaf and Hard of Hearing, State of Washington

File No: TRS-01-12

Wisconsin Department of Administration, State of Wisconsin

File No: TRS-18-12

Division of Vocational Rehabilitation, State of Wyoming

Federal Communications Commission.
Karen Peltz Strauss,
Deputy Chief, Consumer and Governmental Affairs Bureau.

[FR Doc. 2013-05649 Filed 3-11-13; 8:45 am]

BILLING CODE 6712-01-P